DEPARTMENT OF ENERGY

Federal Energy Regulatory Commission

[Docket No. AD06-5-000]

Office of Energy Projects (OEP); Notice of Intent to Prepare an Effectiveness Assessment of the Natural Gas Facility Interagency Agreement

February 28, 2006.

In May 2002, the Federal Energy Regulatory Commission (FERC or Commission), the Bureau of Land Management, the Fish and Wildlife Service, the Environmental Protection Agency, the Forest Service, the Department of Transportation, the Army Corps of Engineers, the National Marine Fisheries Service, the Advisory Council on Historic Preservation, and the Department of Energy signed an agreement entitled “Interagency Agreement on Early Coordination of Required Environmental and Historic Preservation Reviews Conducted in Conjunction with the Issuance of Authorizations to Construct and Operate Interstate Natural Gas Pipelines Certificated by the Federal Energy Regulatory Commission” (IA).

As a result of the IA, the signatory agencies formed a working group to coordinate each agency's implementation of the IA (Working Group). Among its tasks, the Working Group committed to the periodic evaluation of the effectiveness of the IA. On behalf of the Working Group, FERC is leading the effort to initiate this assessment. To achieve the maximum benefit, including evaluation of the Commission's Pre-Filing Process, a series of telephone conferences and interactive public workshops are planned. The participants will include individuals who have participated in the Commission's National Environmental Policy Act (NEPA) process since the enactment of the IA, and will cover both pipeline and liquefied natural gas (LNG) projects in various regions of the United States. These include individuals from Federal, state and local agencies, regulated natural industry, Native American tribes, affected property owners, citizens, non-government organizations and other stakeholders.

Since many of the signatory federal agencies have prepared internal guidelines to more effectively implement the IA, the assessment will also collect feedback on each agency's implementation, to determine whether they are effective or need revision to improve the review of future natural gas projects.

The FERC or its contractor will be contacting individuals to collect specific information about experiences working with the IA and/or agency guidance. We are looking for a broad cross-section of responses—large and small projects; involving multiple agencies or a single agency; and projects involving the Commission's Pre-Filing Process. The information gathered from this assessment will be compiled and presented to the Working Group to assist in determining whether the IA and the signatory agencies' current internal guidelines are furthering the intended goals. The information will also be used to gage whether agencies are fulfilling the expeditious completion of proceedings by issuing the necessary permits or authorizations for natural gas projects.

At this time, we are considering the following projects for our assessment (note this project list may change and is not final):

• ANR Pipeline Company: West Leg Project, (CP02-434-000);

• Columbia Gas Transmission Corporation: Line 1278 Replacement Project, (CP04-34-000);

• Transwestern Pipeline Company: San Juan 2005 Expansion, (CP04-104-000);

• Golden Pass LNG: Golden Pass LNG Project, (CP04-386-000);

• Vista del Sol LNG: Vista del Sol LNG Project, (CP04-395-000);

• Northwest Pipeline Corporation: Northwest Capacity Replacement Project, (CP05-32-000); and

• Entrega Gas Pipeline, LLC: Entrega Pipeline Project, (CP04-413-000).

Public Participation

You are encouraged to participate and provide comments about the Commission's NEPA process as it relates to the IA and/or the Commission's Pre-Filing Process. To expedite the receipt and consideration of your comments, electronic submission of comments is strongly encouraged. See Title 18 CFR 385.2001(a)(1)(iii) and the instructions on the FERC Internet Web site (http://www.ferc.gov) under the eFiling link and the link to the User's Guide. Before you can submit comments you will need to create a free account by clicking on “Sign-up” under “New user.” You will be asked to select a type of submission you are making. This type of submission is considered a “Comment on Filing.” Comments submitted electronically must be submitted by March 31, 2006.

If you wish to mail comments, please mail your comments so that they will be received in Washington, DC on or before March 31, 2006 and carefully follow these instructions:

Send an original and two copies of your letter to:

• Magalie R. Salas, Secretary, Federal Energy Regulatory Commission, 888 First Street, NE., Room 1A, Washington, DC 20426.

• Label one copy of your comments for the attention of Gas 1, DG2E; and

• Reference Docket No. AD06-5-000 on the original and both copies.

Everyone who responds to this notice or provides comments will be retained on our Gas Outreach mailing list.

We will issue a separate notice announcing the workshops' planned dates, locations and times. If you have any questions regarding the IA Effectiveness Assessment, the upcoming/planned public workshops, or would like to be placed on our Gas Outreach mailing list for this task, please call Alisa Lykens, Gas Outreach Manager, at (202) 502-8766.

Magalie R. Salas,
Secretary.

[FR Doc. E6-3207 Filed 3-7-06; 8:45 am]

BILLING CODE 6717-01-P